EQUAL EMPLOYMENT OPPORTUNITY COMMISSION

29 CFR Part 1602

RIN 3046-AA89

Recordkeeping and Reporting Requirements Under Title VII, the ADA, and GINA

AGENCY: Equal Employment Opportunity Commission.

ACTION: Proposed rule: Cancellation of hearing.

SUMMARY: Notice is hereby given that the Commission is cancelling the public hearing on the above proposed modifications of its recordkeeping and reporting provisions under title VII, the ADA, and GINA. (76 FR 31892, June 2, 2011). No requests to present oral testimony at a hearing concerning the proposed rule were received from the public. Further, the Commission received only one public comment in response to the June 2 notice, and the commenter expressed support for the proposed changes. Therefore, it will not be necessary to hold the hearing.

FOR FURTHER INFORMATION CONTACT: Thomas J. Schlageter, Assistant Legal Counsel, (202) 663-4668, or Erin N. Norris, Senior Attorney, (202) 663-4876, Office of Legal Counsel, 131 M Street, NE., Washington, DC 20507.

Dated: September 8, 2011.
For the Commission.
Jacqueline A. Berrien,
Chair.

[FR Doc. 2011-23601 Filed 9-14-11; 8:45 am]

BILLING CODE 6570-01-P